DEPARTMENT OF HEALTH AND HUMAN SERVICES

National Institutes of Health

Submission for OMB Review; Comment Request; Study of Testicular Germ Cell Cancer in U.S. Military Servicemen: Substudy of Maternal Risk Factors

SUMMARY: Under the provisions of section 3607(a)(1)(D) of the Paperwork Reduction Act of 1995, the National Cancer Institute (NCI), the National Institutes of Health (NIH) has submitted to the Office of Management and Budget (OMB) a request for review and approval of the information collection listed below. This proposed information collection was previously published in the Federal Register on August 23, 2001, page 44362 and allowed 60 days for public comment. One public comment was received that is being addressed in the study. The purpose of this notice is to allow an additional 30 days for public comment. The National Institutes of Health may not conduct or sponsor, and the respondent is not required to respond to, an information collection that has been extended, revised, or implemented on or after October 1, 1995, unless it displays valid OMB control number.

Proposed Collection

Title: Study of Testicular Germ Cell Cancer in U.S. Military Servicemen: Substudy of Maternal Risk Factors. Type of Information Collection Request: NEW. Need and Use of Information Collection: This study will seek to determine the causes of testicular germ cell cancer. The incidence rate of testicular cancer has been increasing for most of the twentieth century. It is the most common tumor among men between the ages of 15 and 35 years, yet its risk factors remain poorly understood. Servicemen are being studied because they are the right age group and testicular cancer is the common cancer among men in the service. The cancer's relatively young age of onset and its association with several congenital anomalies indicate that events during in-utero life may place men at risk of this tumor. Therefore, this study seeks to interview the mothers of men who developed testicular cancer and mothers of men who did not develop testicular cancer. Mothers will be asked about events surrounding pregnancy with the son and early life events.

Frequency of Response: One interview is requested. Affected Public. Individuals. Type of Respondents: Mothers of servicemen who were diagnosed with testicular cancer and mothers of servicemen who were not diagnosed with testicular cancer. The annual reporting burden is as follows:

Estimated Number of Respondents: 520;

Estimated Number of Responses per Respondent: 1; Average Burden Hours Per Response: 1.0; and

Estimated Total Annual Burden Hours Requests: 520. The annualized cost to respondents is estimated at: $0. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Dr. Katherine A. McGlynn, Environmental Epidemiology Branch, DCEG, NCI, NIH, Executive Plaza South, Room 7060, 6120 Executive Boulevard, Bethesda, MD 20892-7234, or call non-toll-free number (301) 435-4918 or E-mail your request, including your address: mcglynn@mail.nih.gov.

Comments Due Date: Comments regarding this information collection are best assured of having their full effect if received within 30 days of the date of this publication.

Dated: February 14, 2002.
Reese L. Nichols,
NCI Project Clearance Liaison.

[FR Doc. 02-4297 Filed 2-21-02; 8:45 am]

BILLING CODE 4140-01-M